DEPARTMENT OF ENERGY

Federal Energy Regulatory Commission

[Docket No. CP09-15-000]

Tennessee Gas Pipeline Company; Notice of Request Under Blanket Authorization

November 6, 2008.

Take notice that on October 29, 2008, Tennessee Gas Pipeline Company (Tennessee), 1001 Louisiana Street, Houston, Texas 77002, filed in Docket No. CP09-15-000, a prior notice request pursuant to sections 157.205 and 157.216 of the Federal Energy Regulatory Commission's regulations under the Natural Gas Act for authorization to abandon by sale to HESCO Gathering Company, L.L.C. (HESCO) the Colete Creek Laterals, located in Victoria County, Texas, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Tennessee proposes to abandon the Coleto Creek Laterals, which are comprised of approximately 10 miles of 12-inch and 4-inch diameter pipelines, six receipt taps, and one meter, as well as all appurtenances thereto. Tennessee states that once Tennessee is authorized to abandon the facilities and completes the purchase and sale transaction with HESCO, the facilities will be owned and operated by HESCO. Tennessee asserts that HESCO has represented to Tennessee that it will continue to operate the facilities in natural gas service.

Any questions regarding the application should be directed to Jacquelyne M. Rocan, Senior Counsel, Tennessee Gas Pipeline Company, 1001 Louisiana Street, Houston, Texas 77002, at (713) 420-4544 or (713) 420-1601 (facsimile) or Debbie Kalisek, Analyst, Certificates & Regulatory Compliance, at (713) 420-3292 or (713) 420-1605 (facsimile).

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-27059 Filed 11-13-08; 8:45 am]

BILLING CODE 6717-01-P